DEPARTMENT OF ENERGY

Federal Energy Regulatory Commission

[Project No. 15243-000]

PacifiCorp; Notice of Preliminary Permit Application Accepted for Filing and Soliciting Comments, Motions To Intervene, and Competing Applications

On October 13, 2021, PacifiCorp filed an application for a preliminary permit, pursuant to section 4(f) of the Federal Power Act (FPA), proposing to study the feasibility of Rock Canyon Pumped Storage Project to be located in Emery county, Utah. The sole purpose of a preliminary permit, if issued, is to grant the permit holder priority to file a license application during the permit term. A preliminary permit does not authorize the permit holder to perform any land-disturbing activities or otherwise enter upon lands or waters owned by others without the owners' express permission.

The proposed project would consist of the following: (1) A new upper reservoir for alternative 1 with a surface area of 48.2 acres and a total storage capacity of 1,902.8 acre-feet at a normal maximum operating elevation of 8,380 feet average mean sea level (msl); (2) a new upper reservoir for alternative 2 with a surface area of 87 acres and a total storage capacity of 2,083 acre-feet at a normal maximum operating elevation of 8,600 feet msl; (3) a new lower reservoir for alternatives 1 and 2 with a surface area of 72 acres and a total storage capacity of 3,119 acre-feet at a normal maximum operating elevation of 6,300 feet ms); (4) a 3,696-foot-long tunnel and 12,672-foot-long penstock, with a hydraulic head of 2,470 feet, connecting the upper and lower reservoirs to the powerhouse for alternative 1; (5) a 10,032-foot-long tunnel penstock, with a hydraulic head of 2,250 feet, connecting the upper and lower reservoirs to the powerhouse for alternative 2; (6) a new underground powerhouse that would be sited along the western shore of the lower reservoir for alternatives 1 and 2 containing three turbine-generator units with a total rated capacity of 500 megawatts; (7) a new 5-mile-long, 345-kilovolt (kV) transmission line connecting the powerhouse to PacifiCorp's existing Emery substation for alternatives 1 and 2; and (8) appurtenant facilities. The estimated annual power generation at the Rock Canyon Pumped Storage would be 1,460 gigawatt-hours.

Applicant Contact: Mr. Tim Hemstreet, Managing Director, Renewable Energy Development PacifiCorp. 825 NE Multnomah, Suite 1800 Portland, OR 97232 Tim.hemstreet@pacificorp.com.

FERC Contact: Ousmane Sidibe; Phone: (202) 502-6245.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15243-000.

More information about this project, including a copy of the application, can be viewed or printed on the “eLibrary” link of Commission's website at https://www.ferc.gov/ferc-online/elibrary/overview. Enter the docket number (P-15243) in the docket number field to access the document. For assistance, contact FERC Online Support.

Dated: April 20, 2022.
Kimberly D. Bose,
Secretary.

[FR Doc. 2022-08845 Filed 4-25-22; 8:45 am]

BILLING CODE 6717-01-P